DEPARTMENT OF DEFENSE

Office of the Secretary

[Docket ID: DOD-2012-OS-0040]

Privacy Act of 1974; System of Records

AGENCY: Office of the Secretary of Defense, DoD.

ACTION: Notice to alter a system of records.

SUMMARY: The Office of the Secretary of Defense proposes to alter a system of records in its inventory of record systems subject to the Privacy Act of 1974 (5 U.S.C. 552a), as amended.

DATES: This proposed action will be effective on April 30, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on March 26, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 26, 2012.
Aaron Siegel,
Alternate OSD Federal Register Liaison Officer, Department of Defense.

DWHS E03

System name:

Security Review Index File (October 7, 2009, 74 FR 51567).

Changes:

* * * * *

Categories of individuals covered by the system:

Delete entry and replace with “Current active duty and Department of Defense (DoD) civilian employees including Foreign Nationals, retired personnel, former DoD employees, and non-active duty members of the Reserve Components that use the security review process to ensure that information they submit for public release does not compromise national security.”

Categories of records in the system:

Delete entry and replace with “Name, personal phone numbers (home/cell), personal/home email address, home mailing address of individuals submitting material for security review, title/subject of submitted document, and case number.”

* * * * *

Authority for maintenance of the system:

Delete entry and replace with “10 U.S.C. 113, Secretary of Defense; DoD Directive 5230.09, Clearance of DoD Information for Public Release; and DoD Instruction 5230.29, Security and Policy Review of DoD Information for Public Release.”

Purpose(s):

Delete entry and replace with “To manage the security review process for documents or materials before they are officially released outside of the DoD. The documents and materials of completed security review cases are maintained for historical reference to ensure subsequent reviews, which may be similar in content, are handled consistently.”

* * * * *

Storage:

Delete entry and replace with “Paper file folders and electronic storage media.”

Retrieveability:

Delete entry and replace with “By name, case number and title/subject of submitted document using Security Review Tracking Application (SRTA).”

Safeguards:

Delete entry and replace with “Paper records are accessed only by officials with a need to know and appropriate security clearance in accordance with assigned duties. Electronic records require Common Access Card to access and are further password protected with access limited to those individuals who have a need to know and access to SRTA. Records are stored in a secure facility with full time guards in rooms requiring specific authority to access.”

Retention and disposal:

Delete entry and replace with “Records are destroyed after 15 years. Appeal files are destroyed 2 years after clearance without amendment; or destroyed 6 years after record was cleared with amendment, or denied clearance.”

* * * * *

Notification procedure:

Delete entry and replace with “Individuals seeking to determine whether information about themselves is contained in this system of records should address written inquiries to Office of Security Review, Executive Services Directorate, Washington Headquarters Services, 1155 Defense Pentagon, Washington, DC 20301-1155.

Written requests should include the individual's name, case number (if available) and title/subject of document submitted.”

Record access procedures:

Delete entry and replace with “Individuals seeking access to information about themselves contained in this system of records should address written inquiries to Office of the Secretary of Defense/Joint Staff, Freedom of Information Requester Service Center, Office of Freedom of Information, Executive Services Directorate, Washington Headquarters Service, 1155 Defense Pentagon, Washington, DC 20301-1155.

Written requests should include the name and number of this system of records notice, the individual's name, case number (if available), title/subject of submitted document, and be signed.”

* * * * *

[FR Doc. 2012-7615 Filed 3-29-12; 8:45 am]

BILLING CODE 5001-06-P